DEPARTMENT OF THE INTERIOR

Bureau of Land Management

[NV-952-03-1420-BJ]

Filing of Plats of Survey; Nevada

AGENCY: Bureau of Land Management, Interior.

ACTION: Notice.

SUMMARY: The purpose of this notice is to inform the public and interested State and local government officials of the filing of Plats of Survey in Nevada.

EFFECTIVE DATE: Filing is effective at 10 a.m. on the dates indicated below.

FOR FURTHER INFORMATION CONTACT: Robert M. Scruggs, Chief, Branch of Geographic Sciences, Bureau of Land Management (BLM), Nevada State Office, 1340 Financial Blvd., PO Box 12000, Reno, Nevada 89520, 775-861-6541.

SUPPLEMENTARY INFORMATION: 1. The Supplemental Plat of the following described lands was officially filed at the Nevada State Office, Reno, Nevada, on April 11, 2003:

The supplemental plat, showing amended lottings in the N1/2 of section 6, Township 22 South, Range 60 East, Mount Diablo Meridian, Nevada, was accepted April 11, 2003.

This supplemental plat was prepared to meet certain administrative needs of the Bureau of Land Management and the Hughes Corporation.

2. The Plats of Survey of the following described lands were officially filed at the Nevada State Office, Reno, Nevada, on April 14, 2003:

The plat, in four sheets, representing the dependent resurvey of a portion of the east boundary, a portion of the subdivisional lines and a portion of the subdivision-of-section lines of sections 25 and 36, and the further subdivision of sections 25 and 36, and metes-and-bounds surveys in sections 25, 26 and 36, Township 21 South, Range 59 East, Mount Diablo Meridian, Nevada, under Group No. 810, was accepted April 14, 2003.

The plat representing the dependent resurvey of a portion of the west boundary, a portion of the subdivisional lines and a portion of the subdivision-of-section lines of section 6, and a metes-and-bounds survey in section 6, Township 22 South, Range 60 East, Mount Diablo Meridian, Nevada, under Group No. 810, was accepted April 14, 2003.

These surveys were executed to meet certain administrative needs of the Bureau of Land Management and the Hughes Corporation.

3. The Supplemental Plat of the following described lands was officially filed at the Nevada State Office, Reno, Nevada, on April 15, 2003:

The supplemental plat, showing a subdivision of lots 5 and 12, section 1, Township 22 South, Range 59 East, Mount Diablo Meridian, Nevada, was accepted April 15, 2003.

This supplemental plat was prepared to meet certain administrative needs of the Bureau of Land Management and the Hughes Corporation.

4. The Supplemental Plat of the following described lands was officially filed at the Nevada State Office, Reno, Nevada, on May 1, 2003:

The supplemental plat, showing a subdivision of original lot 5, section 6, and correcting an erroneous area shown for original lot 4, section 6, on the original plat, Township 17 North, Range 55 East, Mount Diablo Meridian, Nevada, was accepted April 29, 2003.

This supplemental plat was prepared to meet certain administrative needs of the Bureau of Land Management.

5. The Supplemental Plats of the following described lands were officially filed at the Nevada State Office, Reno, Nevada, on May 22, 2003:

The supplemental plat, showing a subdivision of lots 15, 16, and 265, and a revised area for lot 19, in the NW1/4NW1/4NW1/4 of section 16, Township 22 South, Range 61 East, Mount Diablo Meridian, Nevada, was accepted May 20, 2003.

The supplemental plat, showing a subdivision of lots 39, 40, 41, and 42, and revised areas for lots 29 through 38, and lots 43 and 44, in the SW1/4NW1/4 and the SE1/4NW1/4 of section 20, Township 22 South, Range 61 East, Mount Diablo Meridian, Nevada, was accepted May 20, 2003.

These supplemental plats were prepared to meet certain administrative needs of the Bureau of Land Management.

6. The above-listed surveys are now the basic record for describing the lands for all authorized purposes. These surveys have been placed in the open files in the BLM Nevada State Office and are available to the public as a matter of information. Copies of the surveys and related field notes may be furnished to the public upon payment of the appropriate fees.

Dated: July 29, 2003.
Robert M. Scruggs,
Chief Cadastral Surveyor, Nevada.

[FR Doc. 03-20217 Filed 8-7-03; 8:45 am]

BILLING CODE 4310-HC-P